DEPARTMENT OF ENERGY

Federal Energy Regulatory Commission

Combined Notice of Filings

Take notice that the Commission has received the following Natural Gas Pipeline Rate and Refund Report filings:

Filings Instituting Proceedings

Docket Numbers: RP13-492-000.

Applicants: Trunkline Gas Company, LLC.

Description: Contract Assignment to be effective 2/1/2013.

Filed Date: 1/30/13.

Accession Number: 20130130-5060.

Comments Due: 5 p.m. ET 2/11/13.

Docket Numbers: RP13-493-000.

Applicants: Trunkline Gas Company, LLC.

Description: Update GT&C Section 26 to be effective 2/1/2013.

Filed Date: 1/30/13.

Accession Number: 20130130-5061.

Comments Due: 5 p.m. ET 2/11/13.

Docket Numbers: RP13-494-000.

Applicants: Alliance Pipeline L.P.

Description: Feb 1-28 2013 Auction to be effective 2/1/2013.

Filed Date: 1/30/13.

Accession Number: 20130130-5173.

Comments Due: 5 p.m. ET 2/11/13.

Docket Numbers: RP13-495-000.

Applicants: Iroquois Gas Transmission System, L.P.

Description: 01/30/13 Negotiated Rates—Citigroup Energy Inc. (RTS)—6075-04 & 05 Amend 3 to be effective 2/1/2013.

Filed Date: 1/30/13.

Accession Number: 20130130-5226.

Comments Due: 5 p.m. ET 2/11/13.

Docket Numbers: RP13-496-000.

Applicants: Iroquois Gas Transmission System, L.P.

Description: 01/30/13 Negotiated Rates—ConocoPhillips Amend 2 (RTS) 30159-19 & 20 to be effective 2/1/2013.

Filed Date: 1/30/13.

Accession Number: 20130130-5227.

Comments Due: 5 p.m. ET 2/11/13.

Docket Numbers: RP13-497-000.

Applicants: TransColorado Gas Transmission Company L.

Description: Permanent Capacity Release Waiver Request.

Filed Date: 1/30/13.

Accession Number: 20130130-5304.

Comments Due: 5 p.m. ET 2/11/13.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 31, 2013.
Nathaniel J. Davis, Sr.
Deputy Secretary

[FR Doc. 2013-03017 Filed 2-8-13; 8:45 am]

BILLING CODE 6717-01-P